DEPARTMENT OF COMMERCE

International Trade Administration

[A-580-885]

Phosphor Copper From the Republic of Korea: Preliminary Results of Antidumping Duty Administrative Review; 2016-2018

AGENCY: Enforcement and Compliance, International Trade Administration, Department of Commerce.

SUMMARY: The Department of Commerce (Commerce) preliminarily finds that Bongsan Co., Ltd. (Bongsan), the sole producer or exporter subject to this administrative review, has not made sales of subject merchandise at less than normal value during the October 14, 2016, through March 31, 2018 period of review (POR). We invite interested parties to comment on these preliminary results.

DATES: Applicable June 17, 2019.

FOR FURTHER INFORMATION CONTACT: Cindy Robinson, AD/CVD Operations, Office III, Enforcement and Compliance, International Trade Administration, U.S. Department of Commerce, 1401 Constitution Avenue NW, Washington, DC 20230; telephone: (202) 482-3797.

SUPPLEMENTARY INFORMATION:

Background

Commerce is conducting an administrative review of the antidumping duty order on phosphor copper from Korea.¹

¹ See Phosphor Copper from the Republic of Korea: Antidumping Duty Order, 82 FR 18893 (April 24, 2017) (Order).

On December 11, 2018, we postponed the preliminary results of review of review by 120 days until June 10, 2019.²

² See Memorandum, “Phosphor Copper from The Republic of Korea: Extension of Time Limit for Preliminary Results of Antidumping Duty Administrative Review; 2016/2018,” dated December 11, 2018.

Commerce exercised its discretion to toll all deadlines affected by the partial federal government closure from December 22, 2018, through the resumption of operations on January 29, 2019.³ If the new deadline falls on a non-business day, in accordance with Commerce's practice, the deadline will become the next business day. Accordingly, the revised deadline for the preliminary results is now June 10, 2019.

³ See memorandum to the record from Gary Taverman, Deputy Assistant Secretary for Antidumping and countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise subject to the Order is phosphor copper and is currently classified in the Harmonized Tariff Schedule of the United States (HTSUS) under subheading 7405.00.1000. While the HTSUS number is provided for convenience and customs purposes, the written product description is dispositive. A full description of the scope of the Order is contained in the Preliminary Decision Memorandum.⁴

⁴ See the “Decision Memorandum for the Preliminary Results of Antidumping Duty Administrative Review: Phosphor Copper from the Republic of Korea; 2016-2018,” dated concurrently and hereby adopted by this notice (Preliminary Decision Memorandum).

Methodology

Commerce is conducting this review in accordance with section 751 of the Tariff Act of 1930, as amended (the Act). Export price is calculated in accordance with section 772 of the Act. Normal value is calculated in accordance with section 773 of the Act. For a full description of the methodology underlying our preliminary results, see the Preliminary Decision Memorandum. A list of the topics discussed in the Preliminary Decision Memorandum is attached as an Appendix to this notice.

The Preliminary Decision Memorandum is a public document and is on file electronically via Enforcement and Compliance's Antidumping and Countervailing Duty Centralized Electronic Service System (ACCESS). ACCESS is available to registered users at https://access.trade.gov, and ACCESS is available to all parties in the Central Records Unit, Room B-8024 of the main Department of Commerce building. In addition, a complete version of the Preliminary Decision memorandum can be accessed directly at http://enforcement.trade.gov/frn/index.html.

Preliminary Results of the Review

As a result of this review, we preliminarily determine the following weighted-average dumping margin for Bongsan for the period October 14, 2016, through March 31, 2018.

Producer or exporter | Weighted- average dumping margin (percent)
Bongsan Co., Ltd | 0.00

Assessment Rate

Upon issuance of the final results of this review, Commerce shall determine, and U.S. Customs and Border Protection (CBP) shall assess, antidumping duties on all appropriate entries covered by this review. If the weighted-average dumping margin for Bongsan is not zero or de minimis (i.e., less than 0.5 percent), then we will calculate importer-specific ad valorem antidumping duty assessment rates based on the ratio of the total amount of dumping calculated for each importer's examined sales to the total entered value of those same sales in accordance with 19 CFR 351.212(b)(1).⁵ If the weighted-average dumping margin for Bongsan is zero or de minimis in the final results, or an importer-specific assessment rate is zero or de minimis in the final results, we will instruct CBP to liquidate the appropriate entries without regard to antidumping duties.

⁵ In these preliminary results, Commerce applied the assessment rate calculation method adopted in Antidumping Proceedings: Calculation of the Weighted-Average Dumping Margin and Assessment Rate in Certain Antidumping Proceedings: Final Modification, 77 FR 8101 (February 14, 2012) (Final Modification for Reviews).

For entries of subject merchandise during the POR produced by Bongsan for which it did not know that its merchandise was destined for the United States, we will instruct CBP to liquidate unreviewed entries at the all-others rate if there is no rate for the intermediate company(ies) involved in the transaction, consistent with the Final Modification for Reviews.⁶

⁶ Id. at 8102.

We intend to issue instructions to CBP 15 days after publication of the final results of this review.

Cash Deposit Requirements

The following cash deposit requirements will be effective upon publication of the notice of final results of administrative review for all shipments of phosphor copper from Korea entered, or withdrawn from warehouse, for consumption on or after the date of publication of the final results in the Federal Register, as provided by section 751(a)(2)(C) of the Act: (1) The cash deposit rate for Bongsan Co., Ltd. will be equal to the weighted-average dumping margin established in the final results of this administrative review; (2) for merchandise exported by producers or exporters not covered in this administrative review but covered in a prior segment of the proceeding, the cash deposit rate will continue to be the company-specific rate published in a completed segment for the most recent period or review; (3) if the exporter is not a firm covered in this review or the original investigation, but the producer is, the cash deposit rate will be the rate established for the most recently completed segment of this proceeding for the producer of the merchandise; and (4) the cash deposit rate for all other producers or exporters will continue to be 8.43 percent, the all-others rate established in the investigation.⁷ These cash deposit requirements, when imposed, shall remain in effect until further notice.

⁷ See Phosphor Copper from the Republic of Korea: Final Affirmative Determination of Sales at Less Than Fair Value and Negative Final Determination of Critical Circumstances, 82 FR 12433 (March 3, 2017).

Disclosure and Public Comment

We intend to disclose the calculations performed in these preliminary results to parties in this proceeding within five days of the date of publication of this notice.⁸

⁸ See 19 CFR 351.224(b).

Pursuant to 19 CFR 351.309(c)(ii), interested parties may submit case briefs not later than 30 days after the date of publication of this notice. Rebuttal briefs, limited to issues raised in the case briefs, may be filed no later than five days after the date for filing case briefs.⁹ Parties who submit case briefs or rebuttal briefs in this proceeding are encouraged to submit with each argument: (1) A statement of the issue; (2) a brief summary of the argument; and (3) a table of authorities.¹⁰ All briefs must be filed electronically using ACCESS. An electronically filed document must be received successfully in its entirety by the established deadline.

⁹ See 19 CFR 351.309(d).

¹⁰ See 19 CFR 351.309(c)(2) and (d)(2); and 19 CFR 351.303 (for general filing requirements).

Pursuant to 19 CFR 351.310(c), interested parties who wish to request a hearing, limited to issues raised in the case and rebuttal briefs, must submit a written request to the Assistant Secretary for Enforcement and Compliance, within 30 days after the date of publication of this notice. Requests should contain: (1) The party's name, address, and telephone number; (2) the number of participants; and (3) a list of issues to be discussed. If a request for a hearing is made, parties will be notified of the time and date for the hearing to be held at the U.S. Department of Commerce, 1401 Constitution Avenue NW, Washington, DC 20230.

We intend to issue the final results of this administrative review, including the results of our analysis of each of the issues raised in written briefs, not later than 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act, and 19 CFR 351.221(b)(4).

Dated: June 10, 2019.
Jeffrey I. Kessler,
Assistant Secretary for Enforcement and Compliance.

Appendix

List of Topics Discussed in the Preliminary Decision Memorandum

I. Summary

II. Background

III. Scope of the Order

IV. Discussion of Methodology

A. Comparisons to Normal Value

B. Date of Sale

C. Product Comparisons

D. Export Price

E. Normal Value

F. Cost of Production Analysis

G. Calculation of Normal Value Based on Comparison Market Prices

H. Currency Conversion

V. Recommendation

[FR Doc. 2019-12727 Filed 6-14-19; 8:45 am]

BILLING CODE 3510-DS-P